DEPARTMENT OF HEALTH AND HUMAN SERVICES

45 CFR Part 88

Office of Global Health Affairs; Regulation on the Organizational Integrity of Entities Implementing Leadership Act Programs and Activities

AGENCY: Office of Global Health Affairs, HHS.

ACTION: Proposed rule; reopening of comment period.

SUMMARY: The Office of Global Health Affairs within the U.S. Department of Health and Human Services (HHS) is reopening the period to submit comments on the proposed rule, published in the Federal Register of April 17, 2008. The proposed rule describes the separation that must exist between a recipient of HHS funds to implement HIV/AIDS programs and activities under the United States Leadership Against HIV/AIDS, Tuberculosis and Malaria Act of 2003 (the “Leadership Act”), Public Law No. 108-25 (May 27, 2003), and an affiliate organization that engages in activities that are not consistent with a policy opposing prostitution and sex trafficking, as required under section 301(f) of the Leadership Act.

DATES: Submit written or electronic comments on the proposed rule by July 28, 2008.

ADDRESSES: You may submit written comments to the following address: U.S. Department of Health and Human Services, Office of Global Health Affairs, Room 639H, 200 Independence Avenue, SW., Washington, DC 20201. Comments will be available for public inspection Monday through Friday, except for legal holidays, from 9 a.m. until 5 p.m., at Room 639H, 200 Independence Avenue, SW., Washington, DC 20201. Please call ahead to 1-202-690-6174, and ask for a representative in the Office of Global Health Affairs to schedule your visit.

Written comments are also accepted electronically via the Internet at http://www.regulations.gov. You can also download an electronic version of the NPRM at http://www.regulations.gov. HHS/OGHA has also posted the NPRM and related materials to its Web site at the following Internet address: http://www.globalhealth.gov/.

FOR FURTHER INFORMATION CONTACT: William R. Steiger, PhD, Office of Global Health Affairs, Hubert H. Humphrey Building, Room 639H, 200 Independence Avenue, SW., Washington, DC 20201.

SUPPLEMENTARY INFORMATION: In the Federal Register of April 17, 2008 (73 FR 20901), HHS published a proposed rule that describes the separation that must exist between a recipient of HHS funds to implement HIV/AIDS programs and activities under the Leadership Act and an affiliate organization that engages in activities that are not consistent with a policy opposing prostitution and sex trafficking, as required under section 301(f) of the Leadership Act. HHS invited stakeholders and other interested parties to comment on the proposed rule by May 19, 2008. One commenter noted a technical error in the proposed rule. HHS issued a notice of correction in the Federal Register of May 20, 2008 (73 FR 29096). Since HHS was unable to issue the notice of correction before the comment period ended, HHS is reopening the comment period for 30 days in order to allow the commenter and other interested persons to submit supplemental comments.

Dated: June 11, 2008.
William R. Steiger,
Director, Office of Global Health Affairs.
Approved: June 23, 2008.
Michael O. Leavitt,
Secretary of Health and Human Services.

[FR Doc. E8-14609 Filed 6-25-08; 8:45 am]

BILLING CODE 4150-38-P